DEPARTMENT OF LABOR

Occupational Safety and Health Administration

[Docket No. ICR-1218-0143(2003)]

Standard on Presence Sensing Device Initiation (PSDI) (29 CFR 1910.217(h)); Extension of the Office of Management and Budget's Approval of Information-Collection (Paperwork) Requirements

AGENCY: Occupational Safety and Health Administration (OSHA), Labor.

ACTION: Request for comment.

SUMMARY: OSHA requests comment on its proposal to extend OMB approval of the information-collection requirements contained in its Standard on Presence Sensing Device Initiation (PSDI) (29 CFR 1910.217(h)). This standard regulates the use of presence-sensing devices (“PSDs”) in mechanical power-press safety systems; a PSD (e.g., a photoelectric field or curtain) automatically stops the stroke of a mechanical power press when the device detects an operator entering a danger zone near the press. Accordingly, the standard protects employees from serious crush injuries, amputations, and death.

DATES: Submit written comments on or before March 24, 2003.

ADDRESSES: Submit written comments to the Docket Office, Docket No. ICR-1218-0143(2003), OSHA, U.S. Department of Labor, Room N-2625, 200 Constitution Avenue, NW., Washington, DC 20210; telephone (202) 693-2350. Commenters may transmit written comments of 10 pages or less by facsimile to (202) 693-1648.

FOR FURTHER INFORMATION CONTACT: Theda Kenney, Directorate of Standards and Guidance, OSHA, U.S. Department of Labor, Room N-3609, 200 Constitution Avenue, NW., Washington, DC 20210; telephone (202) 693-2222. A copy of the Agency's Information-Collection Request (ICR) supporting the need for the information collections specified by the Standard on Presence Sensing Device Initiation (PSDI) (29 CFR 1910.217 (h)) is available for inspection and copying in the Docket Office, or by requesting a copy from Theda Kenney or Todd Owen at (202) 693-2222. For electronic copies of the ICR, contact OSHA on the Internet at http://www.osha.gov, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and costs) is minimal, collection instruments are understandable, and OSHA's estimate of the information-collection burden is correct.

A number of paragraphs in OSHA's Standard on Presence Sensing Device Initiation (PSDI) (29 CFR 1910.217(h)) (the “Standard”) contain paperwork requirements. These requirements include: Certifying brake-monitor adjustments, alternatives to photoelectric PSDs, safety-system design and installation, and employee training; annual recertification of safety systems; establishing and maintaining the original certification and validation records, as well as the most recent recertification and revalidation records; affixing labels to test rods and to certified and recertified presses; and notifying an OSHA-recognized third-party validation organization when a safety system component fails, the employer modifies the safety system, or a point-of-operation injury occurs. In addition, Appendix A of § 1910.217 provides detailed information and procedures required to meet the certification/validation provisions, as well as the design requirements, contained in the Standard. Accordingly, Appendix A supplements and explains the certification/validation provisions of the PSDI Standard, and does not specify new or additional paperwork requirements for employers. Appendix C § 1910.217 describes the requirements and procedures for obtaining OSHA recognition as a third-party validation organization; therefore, the paperwork requirements specified by this appendix do not impose burden hours or cost directly on employers who use PSDs.

By complying with these paperwork requirements, employers ensure that PSDI-equipped mechanical power presses are in safe working order, thereby preventing severe injury and death to press operators and other employees who work near this equipment. In addition, these records provide the most efficient means for an OSHA compliance officer to determine that an employer performed the requirements and that the equipment is safe.

To date no third-party organization is available to validate employer and manufacturer certifications that their PSDI equipment and practices meet the requirements of the Standard. Therefore, the Agency cannot attribute burden hours and cost to the paperwork requirements of the Standard.

The Agency is currently conducting a Lookback Review on PSDI pursuant to Section 610 of the Regulatory Flexibility Act and section 5 of Executive Order 12866 on Regulatory Planning and Review (67 FR 55181, Docket No. S225A). The purpose of this review is to determine, while protecting worker safety, whether there are ways to modify this standard to make implementation more practical, to reduce regulatory burden on small business and to improve its effectiveness. The public comment period for the PSDI Lookback Review closes on January 27, 2003.

II. Special Issues for Comment

OSHA has a particular interest in comments on the following issues:

• Whether the proposed information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information-collection and -transmission techniques.

III. Proposed Actions

OSHA is proposing to extend OMB approval of the information-collection requirements specified by the Standard even though the Agency can attribute no burden hours and cost to these requirements. To date no third-party organization is available to validate employer and manufacturer certifications that their PSDI equipment and practices meet the requirements of the Standard. This notice provides an opportunity for the public to comment on the proposed extension of OMB's approval of the Information Collection Request on the Standard on Presence Sensing Device Initiation (PSDI). The Agency will include a summary of these comments as part of its request to OMB to approve these paperwork requirements.

Type of Review: Extension of a currently-approved information-collection requirement.

Title: Standard on Presence Sensing Device Initiation (PSDI) (29 CFR 1910.217(h)).

OMB Number: 1218-0143.

Affected Public: Business or other for-profit; not-for-profit institutions; Federal government; State, local, or tribal governments.

Number of Respondents: 0.

Frequency of Recordkeeping: On occasion; annually; other (initially).

Average Time per Response: 0.

Estimated Total Burden Hours: 0.

IV. Authority and Signature

John L. Henshaw, Assistant Secretary of Labor for Occupational Safety and Health, directed the preparation of this notice. The authority for this notice is the Paperwork Reduction Act of 1995 (44 U.S.C. 3506), and Secretary of Labor's Order No. 5-2002 (67 FR 65008).

Signed at Washington, DC, on January 14, 2003.
John L. Henshaw,
Assistant Secretary of Labor.

[FR Doc. 03-1327 Filed 1-21-03; 8:45 am]

BILLING CODE 4510-26-M